DEPARTMENT OF TRANSPORTATION

Federal Aviation Administration

Proposed Technical Standard Order TSO-C RIPS, Recorder Independent Power Supply

AGENCY: Federal Aviation Administration, DOT.

ACTION: Notice of availability and requests for public comment.

SUMMARY: This notice announces the availability of and request comments on a draft Technical Standard Order (TSO) C RIPS, Recorder Independent Power Supply (RIPS). The draft TSO-C RIPS prescribes the minimum performance standard (MPS) that a RIPS must meet in order to bear the TSO number on its identification plate. The RIPS is to be used to provide emergency power to a cockpit voice recorder or combination voice/data recorder.

DATES: Comments must be received on or before August 22, 2002.

ADDRESSES: Send all comments on the proposed technical standard order to: Federal Aviation Administration, Aircraft Certification Service, Aircraft Engineering Division, Technical Programs and Continued Airworthiness Branch, AIR-120, ATTN: Bobbie J. Smith, Room 815, 800 Independence Avenue, SW., Washington, DC 20591. Or, deliver comments to: Federal Aviation Administration, Room 815, 800 Independence Avenue, SW., Washington, DC 20591.

FOR FURTHER INFORMATION CONTACT: Ms. Bobbie J. Smith, Program Support Specialist, AIR-120, Aircraft Certification Service, Aircraft Engineering Division, Federal Aviation Administration, 800 Independence Avenue, SW., Washington, DC 20591, Telephone (202) 267-9546.

SUPPLEMENTARY INFORMATION

Comments Invited

Interested persons are invited to comment on the proposed TSO listed in this notice by submitting such written data, views, or arguments as they desire to the above specified address. Comments received on the proposed TSO may be examined, before and after the comment closing date, in Room 815, FAA Headquarters Building (FOB-10A), 800 Independence Avenue, SW., Washington, DC 20591, weekdays except Federal holidays, between 8:30 a.m. and 4:30 p.m. All communications received on or before the closing date for comments specified above will be considered by the Director of the Aircraft Certification Service before issuing the final TSO.

Background

Since 1983, there have been 52 accidents and incidents in which data was not available from either the cockpit voice recorder or the flight data recorder or both. In each of the incidences the non-availability of data was due to interruption of electrical power following engine failure, generator failure, or crew action.

Recent innovation in recorder and power supply technology have made it possible to provide an independent power source that would provide sufficient power to operate a solid-state flight recorder for 10 minutes. As such, the FAA proposes the availability of recorded voice and data information throughout the flight up until a brief period (10 minutes) after loss of electrical power. Such data would be beneficial to accident investigators in rapidly assessing the events leading up to and possibly the cause of accidents and incidents. Such rapid assessment would provide the information that the FAA and aircraft industry requires in order to implement any necessary corrective action.

How To Obtain Copies

A copy of the proposed TSO may be obtained via the information contained in section titled FOR FURTHER INFORMATION CONTACT, or the Internet at http://www.faa.gov/certification/aircraft/TSOA.htm.

Issued in Washington, DC, on June 6, 2002.
Kim K. Smith,
Acting Deputy Manager, Aircraft Engineering Division, Aircraft Certification Service.

[FR Doc. 02-14755 Filed 6-11-02; 8:45 am]

BILLING CODE 4910-13-M